DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favour of relief.

Little Kanawha River Railroad Corporation

[Docket Number FRA-2001-10669]

Marietta Industrial Enterprises, Inc, of Marietta, OH, has petitioned on behalf of the Little Kanawha River Rail (LKRR) for a permanent waiver of compliance for one locomotive from the requirements of the Locomotive Safety Standards, 49 CFR Part 229.23, which requires the time interval between periodic inspections not exceed 92 days. The petitioner indicates that the locomotive is used in switching service over a 2.5 mile short line at a speed not to exceed 10 mph. They state that the locomotive is used an average of 29 hours a week and would like to extend the 92 day periodic requirement to 184 days.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2001-10669) and must be submitted to the Docket Clerk, DOT Central Docket Management Facility, Room P1-401, Washington, DC. 20590. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Issued in Washington, DC. on October 2, 2001.
Grady C. Cothen, Jr.,
Deputy Associate Administrator for Safety Standards and Program Development.

[FR Doc. 01-25223 Filed 10-5-01; 8:45 am]

BILLING CODE 4910-06-P